DEPARTMENT OF EDUCATION

National Institute on Disability and Rehabilitation Research—Disability and Rehabilitation Research Projects and Centers Program—Rehabilitation Research and Training Centers (RRTCs)

AGENCY: Office of Special Education and Rehabilitative Services, Department of Education.

ACTION: Notice of final priority for a RRTC on Vocational Rehabilitation.

SUMMARY: The Assistant Secretary for Special Education and Rehabilitative Services announces a priority on vocational rehabilitation under the Disability and Rehabilitation Research Projects and Centers Program administered by the National Institute on Disability and Rehabilitation Research (NIDRR). The Assistant Secretary may use this priority for competitions in fiscal year (FY) 2007 and later years. We take this action to focus research attention on areas of national need. We intend this priority to improve rehabilitation services and outcomes for individuals with disabilities.

DATES: Effective Date: This priority is effective July 30, 2007.

FOR FURTHER INFORMATION CONTACT: Donna Nangle, U.S. Department of Education, 400 Maryland Avenue, SW., room 6030, Potomac Center Plaza, Washington, DC 20202-2700. Telephone: (202) 245-7462 or via Internet: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Rehabilitation Research and Training Centers (RRTCs)

RRTCs conduct coordinated and integrated advanced programs of research targeted toward the production of new knowledge to improve rehabilitation methodology and service delivery systems, alleviate or stabilize disability conditions, or promote maximum social and economic independence for persons with disabilities. Additional information on the RRTC program can be found at: http://www.ed.gov/rschstat/research/pubs/res-program.html#RRTC.

General Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

We published a notice of proposed priority (NPP) for NIDRR's Disability and Rehabilitation Research Projects and Centers Program, RRTC program, in the Federal Register on March 27, 2007 (72 FR 14263). The NPP included a background statement that described our rationale for the priority proposed in that notice.

There are differences between the NPP and this notice of final priority (NFP) as discussed in the following section.

Analysis of Comments and Changes

In response to our invitation in the NPP, eleven parties submitted comments on the proposed priority. An analysis of the comments and of any changes in the priority since publication of the NPP follows.

Generally, we do not address technical and other minor changes, or suggested changes the law does not authorize us to make under the applicable statutory authority. In addition, we do not address general comments that raised concerns not directly related to the proposed priority.

Comments: None.

Discussion: Upon internal review of the NPP, NIDRR wishes to further clarify the focus of research related to “best practices” activities to be conducted under this priority. In the NPP, NIDRR proposed that an RRTC funded under the priority must contribute to several outcomes, including increased knowledge of “best practices” for prioritizing and providing services to individuals with the most significant disabilities. In the NPP, we proposed specifically that the research to be conducted to contribute to this outcome must focus on the “extent to which individuals with the most significant disabilities are given priority for services by their respective State Vocational Rehabilitation (VR) programs.” We are revising this language to specifically reflect section 101(a)(5)(A) of the Rehabilitation Act, and related regulations under 34 CFR 361.36 to clarify that NIDRR and RSA are specifically interested in research on best practices for administering and implementing an order of selection in serving individuals with the most significant disabilities.

Changes: NIDRR has revised the priority to clarify that the focus of best practices research to be conducted under paragraph (d) of the priority must be on the administration and implementation of an order of selection in serving individuals with the most significant disabilities.

Comment: One commenter noted that a relatively low percentage of consumers of State VR programs who are blind or have low vision, and whose cases have been closed with an employment outcome, obtain competitive employment. Based on this finding, the commenter recommends that paragraph (e) of the priority be amended to include a focus on individuals who are blind or have low vision.

Discussion: As described in the NPP, NIDRR and RSA have chosen to focus their research resources on individuals with developmental disabilities (DD) and individuals with mental illness (MI) because historically these individuals have had very low employment outcome rates. Individuals with MI have the lowest annual closure rate in the VR system. Individuals with DD also have low rates of closure relative to other subpopulations. These low closure rates, combined with the fact that individuals with DD and MI comprise about half of VR clients nationally, provide the strategic rationale for the proposed focus of paragraph (e).

Changes: None.

Comment: Three commenters noted that the findings of the RRTC should be incorporated into training and ongoing educational requirements of VR personnel, and disseminated to individuals with disabilities. These commenters suggest that paragraph (f) of the priority be amended to include a requirement for a direct VR program delivery impact strategy.

Discussion: We agree with this commenter's observation that the proposed priority unduly restricts dissemination efforts to “State and Federal administrators of the VR program,” and that applicants should disseminate the results of their research widely throughout the VR service delivery system as well as to individuals with disabilities. It is beyond the scope of this grant, however, to ensure that research findings are formally incorporated into training and education requirements of VR staff.

Changes: NIDRR has revised paragraph (f) of the priority to require the RRTC to disseminate research results and provide training and technical assistance to all VR program personnel, as well as individuals with disabilities.

Comment: Four commenters suggested that the priority be amended to incorporate specific research topics related to services provided to youth in transition from school to employment settings.

Discussion: NIDRR and RSA have made a strategic decision to focus the work of this RRTC on the State-level structures and systems for providing employment services to individuals with disabilities. As described in the Background section in the NPP, the goal of this RRTC is to produce information that will properly contextualize future employment interventions and intervention studies. This new knowledge will help determine the real world applicability of those interventions, and the results of research on them. NIDRR and RSA believe that new knowledge will include information about many State-level systems that serve individuals transitioning from school to postsecondary work activity and agree that this important area could benefit from additional research-based knowledge. NIDRR and RSA believe that an applicant could propose research on transition-related service delivery structures under paragraphs (b) and (c) of the priority. However, we have no basis for requiring that all applicants focus their research in this manner.

Changes: None.

Comment: Four commenters suggested that the term “home-based employment” utilized in paragraph (c) of the priority be broadened to include self-employment and entrepreneurship.

Discussion: NIDRR and RSA are specifically interested in the extent to which State VR systems use home-based employment options to provide VR services. Under paragraph (c) the priority allows applicants to propose research that examines a wide variety of VR program characteristics. The list of characteristics in paragraph (c) was not intended to be exhaustive. Accordingly, an applicant could propose to focus research on the broader categories of self-employment and entrepreneurship. However, NIDRR has no basis for requiring that all applicants focus on self-employment or entrepreneurship in responding to the priority.

Changes: None.

Comment: Referring specifically to paragraph (a) of the priority, three commenters suggested that NIDRR require applicants to explore the interaction between State procurement policies and choice provisions that are spelled out in the Rehabilitation Act.

Discussion: To the extent that research literature on this topic exists, applicants may propose to include it in their literature review and synthesis. Applicants may also propose to examine this topic under paragraphs (b), (c), (d), and (e) of the priority. However, NIDRR has no basis for requiring that all applicants focus on the interaction between state procurement policies and the choice provisions described in section 102(d) of the Rehabilitation Act.

Changes: None.

Comment: Three commenters recommended that paragraph (b) of the priority be expanded to require research on specific disability employment service topics such as interagency agreements, VR connections to One-Stop Centers, VR connections to apprenticeship programs, policies related to needs-based financing of postsecondary education, and VR connections to programs for military veterans.

Discussion: The priority allows applicants to propose studies examining these specific characteristics of disability employment services, as well as many others. However, NIDRR has no basis for requiring that all applicants focus on these factors in responding to the priority.

Changes: None.

Comment: Three commenters recommended that paragraph (c) of the priority be expanded to require research on specific VR program characteristics such as extended evaluations and trial work experiences, VR agreements with agencies providing long-term services and employment supports, characteristics of individuals denied VR services, and different types of purchase-of-service agreements.

Discussion: In paragraph (c), we described the characteristics we thought applicants should examine in their studies, but as noted previously the list of characteristics was not intended to be exhaustive. Accordingly, under paragraph (c), an applicant could propose to examine the characteristics suggested by the commenters, as well as many others. However, NIDRR has no basis for requiring that all applicants focus on the additional characteristics recommended by the commenters.

Changes: None.

Comment: One commenter asked whether best-practices research on serving people with MI and DD, under paragraph (e) of the priority, could focus on services provided by non-VR agencies.

Discussion: Under paragraph (e) of the priority, best practices research must be coordinated with and informed by research conducted under paragraphs (b) and (c) of the priority. Under paragraph (b), the RRTC must research the role of community non-governmental organizations and government entities in the delivery of services to individuals with disabilities. Accordingly, an applicant's research could include best practices from non-VR service providers. NIDRR and RSA are ultimately interested in application of these best-practices findings within the VR system, regardless of their source.

Changes: None.

Comment: One commenter asked whether NIDRR would consider applications that propose randomized controlled intervention designs.

Discussion: As described in the Background section of the NPP, and clearly outlined in the proposed priority, the purpose of this RRTC is to conduct research that is largely descriptive, in order to provide the contextual basis for future interventions and intervention studies. A randomized-controlled trial would not produce information that fulfills this purpose. NIDRR will not consider proposals that are not responsive to paragraphs (a) through (f).

Changes: None.

Comment: One commenter asked NIDRR to define the term “best practices” that is used in the priority.

Discussion: Generally, the term “best practices” refers to the notion that there are methods or processes that are more closely associated with achieving a desired goal than others. The goal identified in paragraph (d) is the prioritization of services to those with the most significant disabilities. The goal identified in paragraph (e) of the priority is achieving a high rate of placing or retaining individuals from specific disability subpopulations in jobs. NIDRR and RSA are specifically interested in research that will help identify current practices, interventions, or service-delivery structures that are associated with achieving these goals.

Changes: NIDRR has revised the priority to include the following definition of best practices: “For purposes of this priority, best practices are defined as current practices, interventions, or service-delivery structures that are associated with achievement of a particular goal.”

Comment: One commenter asked whether NIDRR would consider systemic change strategies that enhance the adoption of evidence-based research, as a best practice for serving individuals with MI or DD.

Discussion: NIDRR requires that best practices research under paragraphs (d) and (e) be coordinated with research activities under paragraphs (b) and (c). Paragraphs (b) and (c) require research on the structural and systemic characteristics of the States' disability employment services networks, and the States' VR programs, respectively. To the extent that successful systemic change strategies currently exist within these employment service-delivery structures, applicants are free to examine them in their research on best practices under paragraphs (d) and (e).

Changes: None.

Comment: One commenter suggested that NIDRR require applicants to identify specific strategies for collaboration with the Helen Keller National Center under paragraph (d) of the priority, given the unique employment challenges of individuals who are deaf-blind.

Discussion: While the priority requires a RRTC to conduct research to help determine best practices for prioritizing and providing services to individuals with the most significant disabilities, it does not require the RRTC to address the needs of any particular disability group in meeting this requirement. Accordingly, applicants may propose to collaborate with any organizations that they believe will help achieve the desired outcomes under this priority. However, NIDRR has no basis for requiring that all applicants collaborate with the Helen Keller National Center or any other particular organization.

Changes: None.

Comment: One commenter noted that the statutory definition of “individual with a significant disability” includes language that restricts this population to those with multiple VR service needs. The commenter notes that this definition precludes prioritization of VR services for people with significant disabilities who only need one VR service. The commenter recommends that NIDRR remove language from the priority that refers to “significant” disability, so that the statutory definition of significant disability does not limit research on the VR prioritization process to those who fit that definition.

Discussion: Title I of the Rehabilitation Act requires State agencies to give priority to those individuals with the most significant disabilities if it cannot serve all eligible individuals. Through this priority, NIDRR seeks to sponsor research that is directly relevant to the VR State agencies and requirements that govern the operation of the VR program. Making the change suggested by the commenter would not further this goal.

Changes: None.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) Awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: This NFP is in concert with President George W. Bush's New Freedom Initiative (NFI) and the Plan. The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Priority

Rehabilitation Research and Training Center (RRTC) on Vocational Rehabilitation (VR)

The Assistant Secretary for Special Education and Rehabilitative Services establishes a priority for the funding of a Rehabilitation Research and Training Center (RRTC) on Vocational Rehabilitation (VR) Services. The RRTC must conduct research on the complex employment service delivery structures for individuals with disabilities, investigate “best practices” in certain critical areas, and provide training and technical assistance in order to improve VR services and employment outcomes among individuals with disabilities. For purposes of this priority, best practices are defined as current practices, interventions, or service-delivery structures that are associated with achievement of a particular goal. Under this priority, the RRTC must contribute to the following outcomes:

(a) A foundation of available knowledge about the VR program's characteristics and outcomes. The RRTC must contribute to this outcome by conducting a literature review and creating a synthesis of previous research on the system-level characteristics of the VR program, and outcomes associated with those characteristics. This review and synthesis will inform the subsequent research, training, and evaluation efforts of the RRTC.

(b) Increased knowledge about the broad constellation of Federal and State policies and programs through which employment services are delivered to individuals with disabilities, and the characteristics of individuals with disabilities who are receiving those services. The RRTC must contribute to this outcome by researching and providing a detailed State-by-State description of the larger employment services network and the role of the VR program within it. This research must identify and describe key characteristics of Federal, State and local government entities and community non-governmental organizations that either directly deliver or directly purchase employment services for individuals with disabilities.

(c) Increased knowledge of the structure and operations of VR service delivery practices at the State level. The RRTC must contribute to this outcome by researching and providing a detailed description of the key characteristics of each State's VR system. These characteristics should include, but not be limited to, VR service delivery structure and practices, patterns of resource allocation, patterns of internal and external provision of services, the extent to which the VR agency uses cooperative agreements with other agencies to deliver services, operational definitions of “individuals with the most significant disabilities,” characteristics of clients, employment outcomes and settings, the level of integration of work settings, the extent of use of home-based employment, and means of addressing transportation barriers. This research must describe elements internal to each State's VR agency or agencies, and provide a base upon which future researchers can analyze the operational consequences and outcomes of different internal arrangements and agency decisions.

(d) Increased knowledge of “best practices” for prioritizing and providing services to individuals with the most significant disabilities, when the State VR agency cannot serve all eligible individuals. The RRTC must contribute to this outcome by conducting research on the administration and implementation of an order of selection in serving individuals with the most significant disabilities by their respective State VR programs, and identifying best practices among State VR programs for ensuring that individuals with the most significant disabilities receive services on a priority basis. Collection and analysis of data for this research must be coordinated with and informed by research on the disability employment service and VR structures described in paragraphs (b) and (c) of this priority. This coordination will allow best practices findings to be properly contextualized, and therefore more likely to be successfully applied in other States or agencies.

(e) Increased knowledge of “best practices” for helping individuals with developmental disabilities (DD) and individuals with mental illness (MI) obtain and retain employment. The RRTC must contribute to this outcome by conducting research to determine best practices for placing or retaining individuals with DD or MI in jobs. Collection and analysis of data for this best practices research must be coordinated with and informed by research on the disability employment service and VR structures described in paragraphs (b) and (c) of this priority. This coordination will allow best practices findings to be properly contextualized, and therefore more likely to be successfully applied in other States or agencies.

(f) Enhancement of the knowledge base of: (1) State and Federal VR program personnel, (2) personnel of other employment programs for individuals with disabilities, and (3) individuals with disabilities, by disseminating research results and providing training and technical assistance based on the new knowledge about the disability employment service structures described in paragraphs (b) and (c) of this priority, and best practices knowledge described in paragraphs (d) and (e) of this priority.

In addition, this RRTC must:

• Collaborate with RSA's technical assistance mechanisms to effectively disseminate best practices materials developed in the research component of this RRTC.

• Coordinate its research, dissemination, training, and technical assistance efforts with grantees in NIDRR's Employment domain, as appropriate.

Executive Order 12866

This notice of final priority has been reviewed in accordance with Executive Order 12866. Under the terms of the order, we have assessed the potential costs and benefits of this regulatory action.

The potential costs associated with the notice of proposed priority are those resulting from statutory requirements and those we have determined as necessary for administering these programs effectively and efficiently.

In assessing the potential costs and benefits—both quantitative and qualitative—of this notice of final priority, we have determined that the benefits of the final priority justify the costs.

Summary of Potential Costs and Benefits

The potential costs associated with this final priority are minimal while the benefits are significant.

The benefits of the Rehabilitation Research and Training Centers have been well established over the years in that similar projects have been completed successfully. This final priority will generate new knowledge and technologies through research, development, dissemination, utilization, and technical assistance projects.

Another benefit of this final priority is that the establishment of a new RRTC conducting research projects will support the President's NFI and will improve the lives of persons with disabilities. This RRTC will generate, disseminate, and promote the use of new information that will improve the options for individuals with disabilities to perform regular activities in the community.Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133B, Rehabilitation Research and Training Centers Program)

Program Authority: 29 U.S.C. 762(g) and 764(b)(2).

Dated: June 25, 2007.
John H. Hager,
Assistant Secretary for Special Education and Rehabilitative Services.

[FR Doc. E7-12549 Filed 6-27-07; 8:45 am]

BILLING CODE 4000-01-P